DEPARTMENT OF THE INTERIOR

Fish and Wildlife Service

[FWS-HQ-OC-2023-N088; FXGO16600926000-FF09X60000-245]

Hunting and Wildlife Conservation Council; Charter Re-Establishment

AGENCY: Fish and Wildlife Service, Interior.

ACTION: Notice.

SUMMARY: The U.S. Department of the Interior and U.S. Department of Agriculture are re-establishing the Hunting and Wildlife Conservation Council (Council). The Council provides recommendations to the Federal Government, through the Secretaries, regarding the establishment and implementation of existing and proposed policies and authorities with regard to wildlife and habitat conservation endeavors that benefit wildlife resources; encourage partnership among the public, sporting conservation organizations, and Federal, State, Tribal, and Territorial governments; and benefit recreational hunting and recreational shooting sports.

DATES: Comments regarding the re-establishment of the Council charter must be submitted no later than March 12, 2024.

ADDRESSES: You may submit comments via email to doug_hobbs@fws.gov.

FOR FURTHER INFORMATION CONTACT: Douglas Hobbs, U.S. Fish and Wildlife Service, Designated Federal Officer, by telephone at (703) 358-2336, or by email at doug_hobbs@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Hunting and Wildlife Conservation Council (Council) is re-established under the authority of the Secretary of the Interior and regulated by the Federal Advisory Committee Act, as amended (FACA; 5 U.S.C. Ch. 10). The Council's duties are strictly advisory and consist of, but are not limited to, providing recommendations for implementation of Executive Order (E.O.) 13443, Facilitation of Hunting Heritage and Wildlife Conservation; E.O. 14008, Tackling the Climate Crisis at Home and Abroad; and Secretarial Order 3362, Improving Habitat Quality in Western Big Game Winter Range and Migration Corridors. Duties include, but are not limited to:

A. Assessing and quantifying implementation of E.O. 13443, E.O. 14008, and Secretarial Order 3362 across relevant departments, agencies, and offices and making recommendations to enhance and expand their implementation as identified;

B. Making recommendations regarding policies and programs that accomplish the following objectives:

1. Conserve and restore wetlands, grasslands, forests, and other important wildlife habitats, and improve management of rangelands and agricultural lands to benefit wildlife;

2. Promote opportunities for fair chase hunting and safe recreational shooting sports and wildlife-associated recreation on public and private lands; encourage hunting and recreational shooting sports safety, including by developing sighting-in ranges on public lands; recruit and retain hunters; and increase public awareness of the importance of wildlife conservation and the social and economic benefits of fair chase hunting, safe recreational shooting sports, and wildlife-associated recreation; and

3. Encourage coordination among the public; the hunting and shooting sports communities; wildlife conservation groups; wildlife-associated recreation interests; and Federal, State, Tribal, and territorial governments.

The Council will meet at least two times per year.

Public Disclosure of Comments: Before including your address, phone number, email address, or other personal identifying information in your comment, you should be aware that your entire comment—including your personal identifying information—may be made publicly available at any time. While you can ask us in your comment to withhold your personal identifying information from public review, we cannot guarantee that we will be able to do so.

Certification Statement: I hereby certify that the Hunting and Wildlife Conservation Council is necessary, in the public interest, and is in connection with the performance of duties imposed on the Department of the Interior and the Department of Agriculture under 43 U.S.C. 1457 and provisions of the Fish and Wildlife Act of 1956 (16 U.S.C. 742a), the Federal Land Policy and Management Act of 1996 (43 U.S.C. 1701 et seq.), the National Forest Management Act of 1976 (16 U.S.C. 1600 et seq.), the National Wildlife Refuge System Improvement Act of 1997 (16 U.S.C. 668dd-668ee), and Executive Order 13443, Facilitation of Hunting Heritage and Wildlife Conservation.

Authority: 5 U.S.C. ch. 10.

Deb Haaland,
Secretary, Department of the Interior.

[FR Doc. 2024-03828 Filed 2-23-24; 8:45 am]

BILLING CODE 4333-15-P